DEPARTMENT OF ENERGY

Federal Energy Regulatory Commission

Combined Notice of Filings

Take notice that the Commission has received the following Natural Gas Pipeline Rate and Refund Report filings:

Filings Instituting Proceedings

Docket Numbers: RP14-1000-000.

Applicants: Algonquin Gas Transmission, LLC.

Description: Ramapo Releases eff 6-1-14 to be effective 6/1/2014.

Filed Date: 5/28/14.

Accession Number: 20140528-5189.

Comments Due: 5 p.m. ET 6/9/14.

Docket Numbers: RP14-1001-000.

Applicants: Caledonia Energy Partners, L.L.C.

Description: Caledonia Energy Partners Capacity Release Purchase Offer Posting Show Cause to be effective 5/28/2014.

Filed Date: 5/28/14.

Accession Number: 20140528-5190.

Comments Due: 5 p.m. ET 6/9/14.

Docket Numbers: RP14-1002-000.

Applicants: Freebird Gas Storage, L.L.C.

Description: Freebird Gas Storage Capacity Release Purchase Offer Posting Show Cause to be effective 5/28/2014.

Filed Date: 5/28/14.

Accession Number: 20140528-5192.

Comments Due: 5 p.m. ET 6/9/14.

Docket Numbers: RP14-1003-000.

Applicants: Rockies Express Pipeline LLC.

Description: Fuel—Electric in Cash to be effective 7/1/2014.

Filed Date: 5/28/14.

Accession Number: 20140528-5194.

Comments Due: 5 p.m. ET 6/9/14.

Docket Numbers: RP14-999-000.

Applicants: East Tennessee Natural Gas, LLC.

Description: GeoMet permanent release to ARP to be effective 6/1/2014.

Filed Date: 5/28/14.

Accession Number: 20140528-5096.

Comments Due: 5 p.m. ET 6/9/14.

Docket Numbers: RP14-1004-000.

Applicants: Transcontinental Gas Pipe Line Company.

Description: Negotiated Rates—Cherokee AGL—Replacement Shippers—Jun 2014 to be effective 6/1/2014.

Filed Date: 5/29/14.

Accession Number: 20140529-5107.

Comments Due: 5 p.m. ET 6/10/14.

Docket Numbers: RP14-1005-000.

Applicants: High Island Offshore System, L.L.C.

Description: ReFile Capacity Release Update to be effective 6/19/2014.

Filed Date: 5/29/14.

Accession Number: 20140529-5108.

Comments Due: 5 p.m. ET 6/10/14.

Docket Numbers: RP14-980-000.

Applicants: High Island Offshore System, L.L.C.

Description: Withdrawal of Capacity Release Update to be effective N/A.

Filed Date: 5/29/14.

Accession Number: 20140529-5081.

Comments Due: 5 p.m. ET 6/10/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 29, 2014.
Nathaniel J. Davis, Sr.,
Deputy Secretary.

[FR Doc. 2014-12901 Filed 6-3-14; 8:45 am]

BILLING CODE 6717-01-P